DEPARTMENT OF HEALTH AND HUMAN SERVICES

National Institutes of Health

Proposed Collection; Comment Request: Enhancing Access and Measuring the Effectiveness of HIV/AIDS Information Methods

SUMMARY: In compliance with the requirement of Section 3506(c)(2)(A) of the Paperwork Reduction Act of 1995, for opportunity for public comment on proposed data collection projects, the National Library of Medicine (NLM), the National Institutes of Health (NIH) will publish periodic summaries of proposed projects to be submitted to the Office of Management and Budget (OMB) for review and approval.

Proposed Collection

Title: Enhancing Access and Measuring the Effectiveness of HIV/AIDS Information Methods. Type of Information Collection Request: New, Need and Use of Information Collection: This study will assess the effectiveness of three information sources within the African American Community in disseminating HIV prevention information. HIV infection and the dissemination of prevention information is a major public health task in North Florida. Three types of African American communities from Gadsden, Leon, and Duval counties have been selected as the sites of this study. This includes communities with rural, mixed rural/urban, and urban areas represented for assessing possible differences in health information channel preferences. This study will add to the body of knowledge concerning HIV information dissemination to African American communities in two ways: first, by assessing whether there are differences in the preferred health information channels of those living in rural, mixed, and urban areas, and secondly, by assessing three information dissemination channels for communicating HIV issues to African American communities. The three information channels of concern in this study are community newsletters, entertainment education, and church ministries. In the first year of the project, a brief survey will be conducted before and after distribution of the community newsletter to assess how the community obtains information about the prevention of HIV infection and transmission, their preferred sources of health information, and the effectiveness of the newsletter. The initial data collected will be used to establish a baseline for the project against which the subsequent project data can be evaluated

Frequency of Response: On occasion. Affected Public: Individuals or households. Type of Respondents: Residents living in Duval, Gadsden and Leon counties, Florida. The annual reporting burden is as follows: Estimated Number of Respondents: 450; Estimated Number of Responses per Respondent: 1; Average Burden Hours Per Response: .167; and Estimated Total Annual Burden Hours Requested: 75. The annualized cost to respondents is estimated at: $1,082. There are no Capital Costs to report. there are no Operating or Maintenance Costs to report.

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, include the use of appropriate automated, electronic, mechanical, or other technological collection techniques or other forms of information technology.

FOR FURTHER INFORMATION CONTACT: To request more information on the proposed project or to obtain a copy of the data collection plans and instruments, contact Ms. Gale Dutcher, Special Assistant to the Associate Director, Division of Specialized Information Services, National Library of Medicine, Building 38A, Room 3S317, 8600 Rockville Pike, Bethesda, MD 20894, or call non-toll-free number (301) 496-3147 or E-mail your request, including your address to: gd21d@nih.gov.

Comments Due Date

Comments regarding this information collection are best assured of having their full effect if received on or before July 5, 2000.

Dated: April 24, 2000.
Donald C. Poppke,
Associate Director for Administrative Management, National Library of Medicine.

[FR Doc. 00-11214 Filed 5-4-00; 8:45 am]

BILLING CODE 4140-01-M